INTERNATIONAL TRADE COMMISSION

[Investigation No. 337-TA-1426]

Certain Crafting Machines and Components Thereof; Notice of Institution of Investigation

AGENCY: U.S. International Trade Commission.

ACTION: Notice.

SUMMARY: Notice is hereby given that a complaint was filed with the U.S. International Trade Commission on October 4, 2024, under section 337 of the Tariff Act of 1930, as amended, on behalf of Cricut, Inc. of South Jordan, Utah. Supplements were filed on October 24, 2024, October 25, 2024, and October 29, 2024. The complaint, as supplemented, alleges violations of section 337 based upon the importation into the United States, the sale for importation, and the sale within the United States after importation of certain crafting machines and components thereof by reason of infringement of certain claims of U.S. Patent No. 11,208,758 (“the '758 patent”); U.S. Patent No. 11,905,646 (“the '646 patent”); U.S. Patent No. D893,563 (“the 'D563 patent”); U.S. Patent No. D910,724 (“the 'D724 patent”); U.S. Patent No. D926,237 (“the 'D237 patent”); and U.S. Patent No. D1,029,090 (“the 'D090 patent”). The complaint further alleges that an industry in the United States exists or is in the process of being established as required by the applicable Federal Statute. The complaint requests that the Commission institute an investigation pursuant to Section 337 and, after the investigation, issue a limited exclusion order with respect to the '758 Patent, the '646 Patent, and the 'D090 Patent; issue a general exclusion order, or in the alternative a limited exclusion order, with respect to the 'D563 Patent, the 'D724 Patent, and the 'D237 Patent; and issue cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2024).

Scope of Investigation: Having considered the complaint, the U.S. International Trade Commission, on December 5, 2024, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claims 18-23 of the '758 patent; and claims 1, 2, 8-12, and 14-16 of the '646 patent; the claim of the 'D563 patent; the claim of the 'D724 patent; the claim of the 'D237 patent; and the claim of the 'D090 patent, and whether an industry in the United States exists or is in the process of being established as required by subsection (a)(2) of section 337;

(2) Pursuant to section 210.10(b)(1) of the Commission's Rules of Practice and Procedure, 19 CFR 210.10(b)(1), the plain language description of the accused products or category of accused products, which defines the scope of the investigation, is “cutting machines and heat press machines for use in crafting and components thereof”; ¹

¹ In this plain English statement of the scope of investigation, “components thereof” is included pursuant to the allegations in the complaint. To the extent that the Complainant has included such an allegation based upon a concern regarding specific components, the Complainant should, during the course of this investigation, seek adjudication and specifically identify the components of the claimed invention sought for exclusion. The lack of adjudication of specific components, however, would not affect any later ability to adjudicate and remedy circumvention through the importation of components with additional enforcement actions.

(3) For the purpose of the investigation so instituted, the following are hereby named as parties upon which this notice of investigation shall be served:

(a) The complainant is: Cricut, Inc., 10855 South River Front Parkway, South Jordan, Utah 84095.

(b) The respondents are the following entities alleged to be in violation of section 337, and are the parties upon which the complaint is to be served:

Hunan Sijiu Technology, Co. Ltd., 1301, Building B-8, Lugu Yuyuan Production Workshop, No. 27 Wenxuan Road, High-tech Zone, Changsha, China 410000

Hunan Sijiu Electronic Technology Co., Ltd., 1301, Building B-8, Lugu Yuyuan Production Workshop, No. 27 Wenxuan Road, High-tech Zone, Changsha, China 410000

Guangdong Rongtu Technology Co., Ltd., Floor 8, No. 15, Huafa Road, Huakou Community, Ronggui Street, Sunde District, Foshan City, Guangdong Province, China 528305

LiPing Zhan, No. 187, Yanglinguan Street, Xingou Town, Jianli County, Jingzhou, China 433300

SainStore Technology Co., Ltd., Room 908, Building 2, No. 16, Keji 4th Road, Songshan Lake Park, Dongguan City, Guangdong Province, China 523808

Shanghai Sishun E-commerce Co., Ltd., 5th Floor, Building 6, Lane 958, Jinsha Jiangxi Road, Jiading District, Shanghai, China 201824

Bozhou Wanxingyu Technology Co. Ltd., No. 26, Guangming Rd., Qiaocheng Dist., Bozhou, Anhui, China, 236800

Bozhou Zhongdaxiang Technology Co., Ltd., No. 41, Zhaoyangzhuang Vil., Dawang Xingzheng Vil., Niuji Town, Qiaocheng Dist., Bozhou, Anhui, China 236800

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondents in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: December 6, 2024.
Lisa Barton,
Secretary to the Commission.

[FR Doc. 2024-29107 Filed 12-10-24; 8:45 am]

BILLING CODE 7020-02-P